DEPARTMENT OF ENERGY

Federal Energy Regulatory Commission

Combined Notice of Filings #1

Take notice that the Commission received the following electric rate filings:

Docket Numbers: ER10-3246-002; ER13-1266-002.

Applicants: PacifiCorp, CalEnergy, LLC.

Description: Supplement to June 28, 2013 Triennial Market Power Update of PacifiCorp, et al.

Filed Date: 11/8/13.

Accession Number: 20131108-5028.

Comments Due: 5 p.m. ET 11/29/13.

Docket Numbers: ER12-1179-004.

Applicants: Southwest Power Pool, Inc.

Description: Southwest Power Pool, Inc.'s Informational Filing of Revised Readiness Metrics for Integrated Marketplace.

Filed Date: 11/1/13.

Accession Number: 20131101-5148.

Comments Due: 5 p.m. ET 11/22/13.

Docket Numbers: ER13-1857-000.

Applicants: Idaho Power Company.

Description: Idaho Power Company submits November 2013 Supplement to Triennial (DPT) to be effective N/A.

Filed Date: 11/7/13.

Accession Number: 20131107-5100.

Comments Due: 5 p.m. ET 11/29/13.

Docket Numbers: ER14-343-000.

Applicants: NV Energy, Inc.

Description: OATT Order No. 764, 764-A Compliance—Section 13.8, 14.6, Attachment N to be effective 11/12/2013.

Filed Date: 11/7/13.

Accession Number: 20131107-5074.

Comments Due: 5 p.m. ET 11/29/13.

Docket Numbers: ER14-344-000.

Applicants: Southwest Power Pool, Inc.

Description: 549R6 Board of Public Utilities, Springfield, MO NITSA and NOA Notice of Cancell to be effective 10/1/2013.

Filed Date: 11/7/13.

Accession Number: 20131107-5077.

Comments Due: 5 p.m. ET 11/29/13.

Docket Numbers: ER14-345-000.

Applicants: Scotia Commodities Inc.

Description: Scotia Commodities Inc. submits Notice of Cancellation to be effective 11/8/2013.

Filed Date: 11/7/13.

Accession Number: 20131107-5104.

Comments Due: 5 p.m. ET 11/29/13.

Docket Numbers: ER14-346-000.

Applicants: MATL LLP.

Description: MATL LLP submits Order 1000 Compliance—Attachment K to be effective 12/31/9998.

Filed Date: 11/7/13.

Accession Number: 20131107-5105.

Comments Due: 5 p.m. ET 11/29/13.

Docket Numbers: ER14-347-000.

Applicants: Pacific Gas and Electric Company.

Description: Notice of Termination of Service Agreement No. 95, Electric Tariff Volume No. 5 of Pacific Gas and Electric Company.

Filed Date: 11/7/13.

Accession Number: 20131107-5127.

Comments Due: 5 p.m. ET 11/29/13.

Docket Numbers: ER14-348-000.

Applicants: Louisville Gas and Electric Company.

Description: Louisville Gas and Electric Company submits Order No. 764 Compliance Filing to be effective 11/12/2013.

Filed Date: 11/8/13.

Accession Number: 20131108-5016.

Comments Due: 5 p.m. ET 11/29/13.

Docket Numbers: ER14-349-000.

Applicants: Tampa Electric Company.

Description: Tampa Electric Company submits OATT Order No. 764 Compliance Filing to be effective 11/12/2013.

Filed Date: 11/8/13.

Accession Number: 20131108-5019.

Comments Due: 5 p.m. ET 11/29/13.

Docket Numbers: ER14-350-000.

Applicants: NorthWestern Corporation.

Description: NorthWestern Corporation submits OATT Order No. 764 Compliance Filing (Montana) to be effective 1/7/2014.

Filed Date: 11/8/13.

Accession Number: 20131108-5020.

Comments Due: 5 p.m. ET 11/29/13.

Docket Numbers: ER14-351-000.

Applicants: Louisville Gas and Electric Company.

Description: Louisville Gas and Electric Company submits EKPC 2d Amd IA to be effective 12/1/2013.

Filed Date: 11/8/13.

Accession Number: 20131108-5021.

Comments Due: 5 p.m. ET 11/29/13.

Docket Numbers: ER14-352-000.

Applicants: Public Service Company of New Mexico.

Description: Public Service Company of New Mexico submits Order No. 764 Compliance Filing to be effective 11/12/2013.

Filed Date: 11/8/13.

Accession Number: 20131108-5032.

Comments Due: 5 p.m. ET 11/29/13.

Docket Numbers: ER14-353-000.

Applicants: NorthWestern Corporation.

Description: NorthWestern Corporation submits OATT Order No. 764 Compliance Filing (South Dakota) to be effective 1/7/2014.

Filed Date: 11/8/13.

Accession Number: 20131108-5040.

Comments Due: 5 p.m. ET 11/29/13.

Docket Numbers: ER14-354-000.

Applicants: Florida Power & Light Company.

Description: Florida Power & Light Company submits OATT Order No. 764 Compliance Filing of Florida Power & Light Company to be effective 1/13/2014.

Filed Date: 11/8/13.

Accession Number: 20131108-5067.

Comments Due: 5 p.m. ET 11/29/13.

Docket Numbers: ER14-355-000.

Applicants: Startrans IO, LLC.

Description: Startrans IO, LLC submits 2014 Update to TRBAA in Appendix I to be effective 1/1/2014.

Filed Date: 11/8/13.

Accession Number: 20131108-5076.

Comments Due: 5 p.m. ET 11/29/13.

Take notice that the Commission received the following electric securities filings:

Docket Numbers: ES14-10-000.

Applicants: Portland General Electric Company.

Description: Application of Portland General Electric Company for Authority to Issue Short-Term Debt Securities.

Filed Date: 11/7/13.

Accession Number: 20131107-5126.

Comments Due: 5 p.m. ET 11/29/13.

Take notice that the Commission received the following public utility holding company filings:

Docket Numbers: PH14-1-000.

Applicants: Isolux Infrastructure Netherlands, B.V.

Description: Isolux Infrastructure Netherlands, B.V. submits FERC-65-B Waiver Notification.

Filed Date: 11/8/13.

Accession Number: 20131108-5033.

Comments Due: 5 p.m. ET 11/29/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 8, 2013.
Nathaniel J. Davis, Sr.,
Deputy Secretary.

[FR Doc. 2013-27613 Filed 11-18-13; 8:45 am]

BILLING CODE 6717-01-P